DEPARTMENT OF TRANSPORTATION

Federal Motor Carrier Safety Administration

[Docket No. FMCSA-2000-8210]

Agency Information Collection Activities Under OMB Review: OMB Control No. 2126-0011 (Commercial Driver Licensing and Test Standards)

AGENCY: Federal Motor Carrier Safety Administration (FMCSA), DOT.

ACTION: Notice and request for comments.

SUMMARY: The FMCSA announces that the Information Collection Request (ICR) described in this notice is being sent to the Office of Management and Budget (OMB) for review and approval. The FMCSA is requesting OMB's continued approval of the information that is required for Commercial Driver Licensing and Test Standards. The ICR describes the information collection and its expected burden. We are required to send ICRs to OMB under the Paperwork Reduction Act. The FMCSA published the required Federal Register notice offering a 60-day comment period on this information collection on May 7, 2001 (66 FR 23082). No comments were received during this comment period. However, one comment was received after the docket closed. Because of the tardiness of the comment, an evident misunderstanding of the proper procedure to use for calculation of burden hours, and several remarks addressed to the CDL program in general rather than the information collection burden, FMCSA will respond directly to the submitter rather than discuss the comment in this notice. A copy of FMCSA's response to this comment will be provided to Docket No. FMCSA-2000-8210.

DATES: Please submit comments by August 27, 2001.

ADDRESSES: Send comments to the Office of Information and Regulatory Affairs, Office of Management and Budget, 725 Seventeenth Street NW., Washington, DC 20503, Attention: DOT Desk Officer. We particularly request your comments on whether the collection of information is necessary for the FMCSA to meet its goal of reducing truck crashes, including whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

FOR FURTHER INFORMATION CONTACT: Mr. Larry Slade (202) 366-5721, Office of Safety Programs, State Programs Division (MC-ESS), Federal Motor Carrier Safety Administration, 400 Seventh Street SW., Washington, DC 20590. Office hours are from 7:30 a.m. to 4:00 p.m., e.t., Monday through Friday, except Federal holidays.

SUPPLEMENTARY INFORMATION: Title: Commercial Driver Licensing and Test Standards.

OMB Approval Number: 2126-0011.

Background: In 1986, Congress enacted the Commercial Motor Vehicle Safety Act (CMVSA), Public Law 99-570, Title XII, among other things, to establish minimum standards for testing and licensing persons who want to operate a commercial motor vehicle (CMV) by weight or use category, and requiring drivers to have a single commercial driver's license (CDL) and driving history record. Under 49 CFR 383.5, a CMV is defined as a motor vehicle or combination of motor vehicles which: (a) has a gross combination weight rating of 11,794 or more kilograms (kg) (26,001 or more pounds (lbs)) inclusive of a towed unit with a gross vehicle weight rating (GVWR) of more than 4,536 kg (10,000 lbs); (b) has a GVWR of 11,794 kg or more (26,001 or more lbs); (c) is designed to transport 16 or more passengers, including the driver; or (d) is of any size and is used to transport hazardous materials which require the motor vehicle to be placarded under the Hazardous Materials Regulations, 49 CFR part 172, subpart F.

The CMVSA requires a driver to notify both their employer and the licensing official in the driver's State of licensure of all violations of any State or local laws relating to traffic control (except parking violations). A person whose CDL is suspended, revoked, or canceled by a State, or who is disqualified from operating a CMV for any period, also must notify their employer of such actions. A person applying for employment as a CMV driver also must notify prospective employers of their employment history as a CMV driver for the previous ten years.

Under section 31309, Title 49, U.S.C. (49 U.S.C. 31309), the Secretary of Transportation must maintain an information clearinghouse and depository of information about the licensing, identification, and disqualification of CMV operators, in conjunction with 49 U.S.C. 31106. The Secretary must consult with the States in carrying out this section. States must certify that they are in compliance with the CDL program. If a State does not substantially comply with these requirements, the FMCSA may penalize the State until compliance is achieved. The information collected by the States will be used to determine whether the States are in substantial compliance with these requirements.

This request for renewed approval includes additional burdens for recordkeeping requirements under 49 CFR 384.231(d) concerning retention and updating of driver records on the Commercial Driver's License Information System (CDLIS).

Respondents: Motor carriers, CMV drivers, and State governments.

Estimated Total Annual Burden: Total burden hours of 620,802 for all respondents include the following three components:

(1) Notification of convictions: Estimated number of annual responses = 3,333,333 (10 million CDL drivers/3 = 3,333,333). It takes approximately 10 minutes to notify a motor carrier concerning convictions. Each driver averages approximately 1 conviction every 3 years. The notification requirement has an estimated annual burden of 555,556 burden hours. (10 million /3 × 10/60 = 555,556 hours);

(2) State compliance and certification: There are 51 responses to this requirement (50 States and the District of Columbia). The compliance and certification requirement has an estimated annual burden of 1,632 hours (51 × 32 hours = 1,632 hours); and

(3) CDLIS Recordkeeping: 50 States and the District of Columbia are required to enter data into CDLIS and to perform record checks before issuing, renewing or upgrading a CDL or allowing a CDL transfer. We estimate that the average amount of time for each CDLIS inquiry is 2 minutes. The total burden hours is 63,614 for these combined activities: 21,522 hours for all States to create a new driver; 7,120 hours for all States to change the State of record; and 34,972 hours for all States to change data.

Authority: The Paperwork Reduction Act of 1995; 44 U.S.C. Chapter 35, as amended; and 49 CFR 1.73.

Issued on: August 22, 2001.
Brian M. McLaughlin,
Associate Administrator for Policy and Program Development.

[FR Doc. 01-21719 Filed 8-27-01; 8:45 am]

BILLING CODE 4910-EX-P